DEPARTMENT OF THE INTERIOR

Fish and Wildlife Service

Notice of Receipt of Applications for Permit

Endangered Species

The following applicants have applied for a permit to conduct certain activities with endangered species. This notice is provided pursuant to section 10(c) of the Endangered Species Act of 1973, as amended (16 U.S.C. 1531, et seq.).

PRT-025112

Applicant: Dana M. Biasatti, Dallas, TX

The applicant requests a permit to import samples obtained from salvaged Leatherback (Dermochelys coriacea), Green (Chelonia mydas) and Olive Ridley (Lepidochelys olivacea) marine turtles for the purpose of in enhancement of the species through scientific research.

PRT-024610

Applicant: Michael J. Flannery, Soldotna, AK

The applicant requests a permit to import the sport-hunted trophy of one male bontebok (Damaliscus pygargus dorcas) culled from a captive herd maintained under the management program of the Republic of South Africa, for the purpose of enhancement of the survival of the species.

PRT-024500

Applicant: James D. McChesney, Cooperstown, NY

The applicant requests a permit to import the sport-hunted trophy of one male bontebok (Damaliscus pygargus dorcas) culled from a captive herd maintained under the management program of the Republic of South Africa, for the purpose of enhancement of the survival of the species.

PRT-024498

Applicant: Roland Garrett, Yorktown, VA

The applicant requests a permit to import the sport-hunted trophy of one male bontebok (Damaliscus pygargus dorcas) culled from a captive herd maintained under the management program of the Republic of South Africa, for the purpose of enhancement of the survival of the species

PRT-024740

Applicant: Robert D. Adams, Hazel, SD

The applicant requests a permit to import the sport-hunted trophy of one male bontebok (Damaliscus pygargus dorcas) culled from a captive herd maintained under the management program of the Republic of South Africa, for the purposes of enhancement of the survival of the species.

PRT-649126

Applicant: National Institutes of Health, Frederick, MD,

The applicant requests a permit to renew their current permit which authorizes import and/or interstate commerce to obtain biological samples taken from endangered and threatened mammals. They request the re-authorization specifically include the import and/or interstate commerce of DNA samples taken from endangered and threatened mammals for the purpose of scientific research.

PRT-024460

Applicant: Riverbanks Zoological Park & Botanical Garden, Columbia, SC

The applicant requests a permit to import one captive-born female black-footed cat (Felis nigripes) from the Johannesburg Zoo, Johannesburg, South Africa, for the purpose of enhancing the survival of the species through propagation.

PRT-024461

Applicant: Riverbanks Zoological Park & Botanical Garden, Columbia, SC

The applicant requests a permit to import one captive-born male black-footed cat (Felis nigripes) from the Pretoria Zoo, Pretoria, South Africa, for the purpose of enhancing the survival of the species through propagation.

PRT-701458

Applicant: Carl and Kevin Beck, Pahrump, NV

The applicant requests a permit to re-export and re-import captive-born Bengal tigers (Panthera tigris tigris) and progeny of the animals currently held by the applicant and any animals acquired in the United States by the applicant to/from worldwide locations to enhance the survival of the species through conservation education. This notification covers activities conducted by the applicant over a three-year period.

PRT-024712

Applicant: Wildlife Conservation Society, Bronx, NY

The applicant requests a permit to import up to 100 Kihansi spray toads (Nectophrynoides asperginis) from the Kihansi River Gorge area of Tanzania for the purpose of propagation for the enhancement of the survival of the species.

PRT-024861

Applicant: Center for Environmental Research and Conservation, Columbia University, New York, NY

The applicant requests a permit to import blood, hair and tissue samples from wild, captive held and/or captive born Asian elephant (Elaphus maximus) for the purpose of enhancement of the species through scientific research.

PRT-023848

Applicant: Toledo Zoological Gardens, Toledo, OH

The applicant requests a permit to import two male and one female captive-born Cheetah (Acinonyx jabatus) from the Hoedspruit Research and Breeding Centre, Waterjkiif Ridge, South Africa for the purpose of enhancement of the species through captive propagation.

PRT-023849

Applicant: Minnesota Zoological Garden, Apple Valley, MN

The applicant requests a permit to import one male captive-born Amur leopard (Panthera pardus orientalis) from Jungle Cat World, Ontario, Canada for the purpose of enhancement of the species through captive propagation.

PRT-024092

Applicant: Black Pine, Inc. Albion, IN

The applicant requests a permit to export 0.2 captive born tigers (Panthera tigris) to Dream World's Tiger Island, Coomera, Queensland, Australia, for the purpose of enhancement of the species through captive propagation.

PRT-799726

Applicant: Duke University Primate Center, Durham, NC

The applicant requests a permit to import tissue samples from captive white-fronted lemurs (Lemur fulvus albifrons) at Parc Ivoloina, Madagascar for scientific research.

PRT-025015

Applicant: Jack W. Nicklas, North Palm Beach, FL

The applicant requests a permit to import the sport-hunted trophy of one male bontebok (Damaliscus pygargus dorcas) culled from a captive herd maintained under the management program of the Republic of South Africa, for the purpose of enhancement of the survival of the species.

Written data or comments should be submitted to the Director, U.S. Fish and Wildlife Service, Office of Management Authority, 4401 North Fairfax Drive, Room 700, Arlington, Virginia 22203 and must be received by the Director within 30 days of the date of this publication.

Marine Mammal

The public is invited to comment on the following application for a permit to conduct certain activities with marine mammals. The application was submitted to satisfy requirements of the Marine Mammal Protection Act of 1972, as amended (16 U.S.C. 1361 et seq.) and the regulations governing marine mammals (50 CFR 18).

PRT-024046

Applicant: Craig W. Scott, Corinth, TX

The applicant requests a permit to import a polar bear (Ursus maritimus) sport-hunted from the Southern Beaufort Sea polar bear population, Northwest Territories, Canada for personal use.

PRT-024496

Applicant: Chris Walgreen, Chicago, IL

The applicant requests a permit to import a polar bear (Ursus maritimus) sport-hunted from the Southern Beaufort Sea polar bear population, Northwest Territories, Canada for personal use.

PRT-024621

Applicant: Alfred G. Hoover, Bloomfield Hills, MI

The applicant requests a permit to import a polar bear (Ursus maritimus) sport-hunted from the Lancaster Sound polar bear population, Northwest Territories, Canada for personal use.

PRT-024741

Applicant: Michael T. Warn, Aurora, OR

The applicant requests a permit to import a polar bear (Ursus maritimus) sport-hunted from the Northern Beaufort Sea polar bear population, Northwest Territories, Canada for personal use.

PRT-024962

Applicant: Richard A. Belotti, Monroe Township, NJ

The applicant requests a permit to import a polar bear (Ursus maritimus) sport-hunted from the Lancaster Sound polar bear population, Northwest Territories, Canada for personal use.

Written data, comments or requests for copies of these complete applications or requests for a public hearing on these applications should be sent to the U.S. Fish and Wildlife Service, Office of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: April 7, 2000.
Kristen Nelson,
Chief, Branch of Permits, Office of Management Authority.

[FR Doc. 00-9138 Filed 4-12-00; 8:45 am]

BILLING CODE 4310-55-U